SMALL BUSINESS ADMINISTRATION

[Disaster Declaration # 10614]

Arizona Disaster # AZ-00005

AGENCY: U.S. Small Business Administration.

ACTION: Notice.

SUMMARY: This is a Notice of the Presidential declaration of a major disaster for Public Assistance Only for the State of Arizona (FEMA-1660-DR), dated 09/07/2006.

Incident: Severe Storms and Flooding.

Incident Period: 07/25/2006 through 08/04/2006.

Effective Date: 09/07/2006.

Physical Loan Application Deadline Date: 11/06/2006.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 09/07/2006, applications for Private Non-Profit organizations that provide essential services of a governmental nature may file disaster loan applications at the address listed above or other locally announced locations.

The following areas have been determined to be adversely affected by the disaster:

Primary Counties:

Pima

Pinal

The Gila River Indian Community Within Pinal County.

The Tohono O'odham Nation Within Pima and Pinal Counties.

The Interest Rates are:

| (Percent)
Other (including non-profit organizations) with credit available elsewhere | 5.000
Businesses and non-profit organizations without credit available elsewhere | 4.000

The number assigned to this disaster for physical damage is 10614.

(Catalog of Federal Domestic Assistance Number 59008)
Herbert L. Mitchell,
Associate Administrator for Disaster Assistance.

[FR Doc. 06-7788 Filed 9-19-06; 8:45 am]

BILLING CODE 8025-01-P